DEPARTMENT OF STATE

[Public Notice 3961]

Shipping Coordinating Committee; Notice of Meeting

The Shipping Coordinating Committee (SHC) will conduct an open meeting at 10 a.m. on Tuesday, 4 June, in Room 4420, at U. S. Coast Guard Headquarters, 2100 Second Street, SW., Washington, DC 20593-0001. The purpose of the meeting is to finalize preparations for the 51st Session of the Technical Cooperation Committee (TCC 50) and 88th Session of Council of the International Maritime Organization (IMO). The TCC 51 meeting will be held at IMO Headquarters on 12-13 June 2002. The Technical Cooperation Committee will focus on the following items:

—Technical assistance aspects of maritime security;

—Regional Co-ordination and Delivery;

—IMO Women in Development Program;

—Institutional Development and Fellowships; and

—Report on the status of funding for the translation of model courses.

The 88th Session of the Council is scheduled for 10-14 June 2002, at the IMO Headquarters in London. Items of interest include:

—Committees reports;

—Report on the International Conference on Liability and Compensation for Bunker Oil Pollution Damage;

—Work Program and Budget for 2002-2003;

—Review of the Organization's financial framework in accordance with Assembly resolution A.877(21);

—Report on the status of conventions and other multilateral instruments in respect of which the Organization performs its function;

—World Maritime University

—IMO International Maritime Law Institute;

—Relations with intergovernmental and non-governmental organizations; and

—Assembly matters.

Members of the public may attend these meetings up to the seating capacity of the room. Interested persons may seek information by writing: Director, International Affairs, U. S. Coast Guard Headquarters, Commandant (G-CI), Room 2114, 2100 Second Street, SW, Washington, DC 20593-0001 or by calling: (202) 267-2280.

Dated: April 10, 2002.
Stephen M. Miller,
Executive Secretary, Shipping Coordinating Committee, Department of State.

[FR Doc. 02-10329 Filed 4-25-02; 8:45 am]

BILLING CODE 4710-07-P